CONSUMER PRODUCT SAFETY COMMISSION

16 CFR Part 1026

Standards of Conduct for Outside Attorneys Practicing Before the Consumer Product Safety Commission; Termination of Rulemaking

AGENCY: Consumer Product Safety Commission.

ACTION: Notice.

SUMMARY: In November 2000, the Consumer Product Safety Commission published a notice of proposed rulemaking to issue a new rule addressing the behavior of attorneys on matters before the Commission. 65 FR 66515. The Commission has now decided that such a new rule is not necessary, and has terminated this regulatory proceeding.

FOR FURTHER INFORMATION CONTACT: Melissa V. Hampshire, Office of the General Counsel, Consumer Product Safety Commission, Washington, DC 20207; (301) 504-7631; mhampshire@cpsc.gov.

SUPPLEMENTARY INFORMATION: The Commission does not have rules governing the behavior of attorneys outside the context of a formal adjudication. The Commission conducts the majority of its business outside of such adjudications. In November 2000 the Commission proposed a new rule that would cover attorney conduct outside of formal adjudications.

The Commission received five comments opposing the proposal. These comments criticized the proposed rule on the following grounds: (1) The rule is unnecessary because there is no attorney misconduct problem at the Commission and existing state bar regulations are adequate to regulate any future attorney misconduct; (2) the “bad faith” standard set forth in the proposed rule is vague and overly broad; and (3) the procedures contained in the proposed rule are inadequate to protect the rights of the attorneys subject to it. The Commission received one comment endorsing the need for a new rule and favoring the standards and enforcement procedures contained in it.

The Commission has evaluated the comments and has decided the proposed attorney conduct rules are not necessary and, accordingly, the November 2000 notice of proposed rulemaking is withdrawn.

Dated: April 22, 2003.
Todd A. Stevenson,
Secretary, Consumer Product Safety Commission.

[FR Doc. 03-10277 Filed 4-24-03; 8:45 am]

BILLING CODE 6355-01-P